DEPARTMENT OF TRANSPORTATION

Federal Railroad Administration

49 CFR Parts 236 and 238

[Docket No. FRA-2013-0060; Notice No. 2]

RIN 2130-AC46

Passenger Equipment Safety Standards; Standards for Alternative Compliance and High-Speed Trainsets

AGENCY: Federal Railroad Administration (FRA), Department of Transportation (DOT).

ACTION: Notice of proposed rulemaking (NPRM); reopening of comment period.

SUMMARY: On December 6, 2016, FRA published an NPRM proposing to amend its regulations on passenger equipment safety standards. By this document, FRA is reopening the NPRM's comment period, which closed February 6, 2017.

DATES: The comment period for the NPRM, (81 FR 88006, Dec. 6, 2016), is reopened. Written comments must be received by March 21, 2017. Comments received after that date will be considered to the extent practicable.

ADDRESSES: Comments: Comments related to Docket No. FRA-2013-0060 may be submitted by any of the following methods:

• Web site: The Federal eRulemaking Portal, www.regulations.gov. Follow the Web site's online instructions for submitting comments.

• Fax: 202-493-2251.

• Mail: Docket Management Facility, U.S. Department of Transportation, 1200 New Jersey Avenue SE., Room W12-140, Washington, DC 20590.

• Hand Delivery: Docket Management Facility, U.S. Department of Transportation, 1200 New Jersey Avenue SE., Room W12-140, between 9 a.m. and 5 p.m., Monday through Friday, except Federal holidays.

Instructions: All submissions must include the agency name, docket name, and docket number or Regulatory Identification Number (RIN) for this rulemaking (2130-AC46). Note that all comments received will be posted without change to http://www.regulations.gov, including any personal information provided. Please see the Privacy Act heading in the SUPPLEMENTARY INFORMATION section of this document for Privacy Act information related to any submitted comments or materials.

Docket: To access the docket to read background documents or comments received, go to http://www.regulations.gov at any time or visit the Docket Management Facility, U.S. Department of Transportation, 1200 New Jersey Avenue SE., Room W12-140, between 9 a.m. and 5 p.m., Monday through Friday, except Federal holidays.

FOR FURTHER INFORMATION CONTACT: Mr. Devin Rouse, Mechanical Engineer, Passenger Rail Division, Office of Railroad Safety, Federal Railroad Administration, 1200 New Jersey Avenue SE., Mail Stop 25, Washington, DC 20590 (telephone: 202-493-6185); or Mr. Michael Hunter, Trial Attorney, Office of Chief Counsel, Federal Railroad Administration, 1200 New Jersey Avenue SE., Mail Stop 10, Washington, DC 20590 (telephone: 202-493-0368).

SUPPLEMENTARY INFORMATION: The NPRM addresses three main subject areas: (1) Tier III trainset safety standards; (2) alternative crashworthiness and occupant protection performance requirements for Tier I passenger equipment; and (3) the maximum authorized speed for Tier II passenger equipment.

In a December 12, 2016 letter, the American Public Transportation Association (APTA) requested a 30-day extension of the NPRM's comment period. APTA stated it needs additional time to thoroughly review the NPRM and review and consolidate comments on the NPRM from its members and affiliates.

As the comment period for the NPRM closed on February 6, 2017, FRA is reopening the comment period consistent with guidance issued January 20, 2017, intended to provide the new Administration an adequate opportunity to review new and pending regulations. Written comments must be received by March 21, 2017. Comments received after that date will be considered to the extent practicable.

Privacy Act

Under 5 U.S.C. 553(c), DOT solicits comments from the public to better inform its rulemaking process. DOT posts comments, without edit, including any personal information the commenter provides, to www.regulations.gov, as described in the system of records notice (DOT/ALL-14 FDMS), available at www.dot.gov/privacy.

Authority: 49 U.S.C. 20103, 20107, 20133, 20141, 20302-20303, 20306, 20701-20702, 21301-21302, 21304; 28 U.S.C. 2461, note; and 49 CFR 1.89.

Issued in Washington, DC, on February 8, 2017.
Patrick Warren,
Executive Director.

[FR Doc. 2017-02877 Filed 2-10-17; 8:45 am]

BILLING CODE 4910-06-P